DEPARTMENT OF COMMERCE

National Institute of Standards and Technology

[Docket Number: 150904821-5821-01]

Alternative Personnel Management System at the National Institute of Standards and Technology

AGENCY: National Institute of Standards and Technology (NIST), Commerce.

ACTION: Notice.

SUMMARY: This notice announces a modification to existing provisions of the National Institute of Standards and Technology's (NIST) Alternative Personnel Management System (APMS), changing the classification structure for the Administrative (ZA) career path, Pay Bands I through IV, based upon a classification review of the level of difficulty and responsibility associated with each Pay Band.

DATES: This notice is effective on September 24, 2015.

FOR FURTHER INFORMATION CONTACT: For further information, please contact Janet Hoffman, by telephone at (301) 975-3185 or by email at janet.hoffman@nist.gov.

SUPPLEMENTARY INFORMATION:

Background

In accordance with Public Law 99-574, the National Bureau of Standards Authorization Act for Fiscal Year 1987, the Office of Personnel Management (OPM) approved a demonstration project plan, “Alternative Personnel Management System (APMS) at the National Institute of Standards and Technology (NIST),” and published the plan in the Federal Register on October 2, 1987 (52 FR 37082). The published demonstration project plan was modified twice, once to clarify certain NIST authorities (54 FR 21331, May 17, 1989) and once to revise the performance appraisal system and the pay administration system in order to better link pay with performance (55 FR 39220, September 25, 1990). The APMS was made permanent in Section 10 of the National Technology Transfer and Advancement Act of 1995, Public Law 104-113, 110 Stat. 775 (Mar. 7, 1996) (codified at 15 U.S.C. 275 note), and the project plan and subsequent amendments were consolidated in the final APMS plan, which was published in the Federal Register on October 21, 1997 (62 FR 54604). NIST published seven subsequent amendments to the final APMS plan: One on May 6, 2005 (70 FR 23996), which became effective upon publication in the Federal Register; one on July 15, 2008 (73 FR 40500), which became effective on October 1, 2008; one on July 21, 2009 (74 FR 35841), which became effective upon publication in the Federal Register; one on January 5, 2011 (76 FR 539), which became effective upon publication in the Federal Register; one on June 19, 2012 (77 FR 36485), which became effective upon publication in the Federal Register; one on August 13, 2012 (77 FR 48128), which became effective upon publication in the Federal Register; and one on August 24, 2012 (77 FR 51518), which became effective upon publication in the Federal Register. NIST published a correction to the final APMS plan on July 21, 2009 (74 FR 35843), which became effective upon publication in the Federal Register.

The plan provides for modifications to be made as experience is gained, results are analyzed, and conclusions are reached on how the system is working. This notice modifies the classification structure for the Administrative (ZA) career path, Pay Bands I through IV, based upon a classification review of the level of difficulty and responsibility associated with each Pay Band.

Richard Cavanagh,
Acting Associate Director for Laboratory Programs.

Table of Contents

I. Executive Summary

II. Basis for APMS Plan Modification

III. Changes to the APMS Plan

I. Executive Summary

The National Institute of Standards and Technology's (NIST) Alternative Personnel Management System (APMS) (62 FR 54604, October 21, 1997) is designed to (1) improve hiring and allow NIST to compete more effectively for high-quality researchers through direct hiring, selective use of higher entry salaries, and selective use of recruiting allowances; (2) motivate and retain staff through higher pay potential, pay-for-performance, more responsive personnel systems, and selective use of retention allowances; (3) strengthen the manager's role in personnel management through delegation of personnel authorities; and (4) increase the efficiency of personnel systems through installation of a simpler and more flexible classification system based on pay banding through reduction of guidelines, steps, and paperwork in classification, hiring, and other personnel systems, and through automation.

This amendment modifies the October 21, 1997 Federal Register notice. Specifically, it modifies the classification structure for the Administrative (ZA) career path, Pay Band I through IV. NIST will continually monitor the effectiveness of this modification.

II. Basis for APMS Plan Modification

Modification of the APMS is based upon a change in the classification structure of the ZA career path. This new structural change will enable NIST to meet the intended design and objectives of the plan and increase the future vitality of the NIST workforce. The NIST APMS allows the NIST Director to make minor procedural modifications within already existing waivers of law or regulation with appropriate notice. Accordingly, NIST modifies the APMS to change the classification structure for the Administrative (ZA) career path, Pay Bands I through IV (set forth below).

III. Changes in the APMS Plan

The APMS at NIST, published in the Federal Register on October 21, 1997 (62 FR 54604), as amended, is modified as follows:

1. The chart titled “NIST Career Paths and Pay Bands” under the subsection titled “Position Classification” is replaced with:

[FR Doc. 2015-24224 Filed 9-23-15; 8:45 am]

BILLING CODE 3510-13-P